DEPARTMENT OF ENERGY

Federal Energy Regulatory Commission

[Docket No. EL04-98-000]

Carl Blumstein, Severin Borenstein, Douglas Grandy, Manuel Robledo, Alan Vallow v. California Power Exchange Corporation; Notice of Complaint Requesting Fast Track Processing

April 30, 2004.

Take notice that on April 29, 2004, Carl Blumstein, Severin Borenstein, Douglas Grandy, Manuel Robledo, and Alan Vallow (Complainants) jointly filed with the Federal Energy Regulatory Commission a formal complaint pursuant to section 206 of the Federal Power Act alleging the failure of the California Power Exchange to disclose new litigation in violation of the Commission's order issued April 1, 2003 in Docket No. EC03-20-000, et al., 103 FERC ¶ 61,001 and the unauthorized use of jurisdictional assets for new litigation in violation of the Commission's order issued July 30, 2002 in Docket Nos. EL02-63-000 and EL02-104-000, 100 FERC ¶ 61,124.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before the comment date below. This filing is available for review at the Commission or may be viewed on the Commission's Web site at http://www.ferc.gov, using the eLibrary (FERRIS) link. Enter the docket number excluding the last three digits in the docket number field to access the document. For assistance, please contact FERC Online Support at FERCOnlineSupport@ferc.gov or toll-free at (866) 208-3676, or for TTY, contact (202) 502-8659. The answer to the complaint, comments, protests and interventions may be filed electronically via the Internet in lieu of paper; see 18 CFR 385.2001(a)(1)(iii) and the instructions on the Commission's Web site under the “e-Filing” link. The Commission strongly encourages electronic filings.

Comment Date: May 10, 2004.

Linda Mitry,
Acting Secretary.

[FR Doc. E4-1076 Filed 5-10-04; 8:45 am]

BILLING CODE 6717-01-P